DEPARTMENT OF HEALTH AND HUMAN SERVICES

Centers for Disease Control and Prevention

[Program Announcement 01093]

Notice of Availability of Funds; Nutrition and Physical Fitness Programs

A. Purpose

The Centers for Disease Control and Prevention (CDC) announces the availability of fiscal year (FY) 2001 funds for grant programs for Nutrition and Physical Fitness Programs. This program addresses the “Healthy People 2010” focus areas of Nutrition and Overweight, and Physical Activity and Fitness.

The purpose of the program is to establish and strengthen nutrition and physical activity programs to prevent physical fitness and nutrition related health problems.

B. Eligible Applicants

Assistance will be provided only to the organizations listed below. No other applications are solicited. The Conference Report H.R. 4577, Consolidated Appropriations Act, 2001, specified these funds for the organizations listed below.

1. Grenada Lake Medical Center in Grenada, Mississippi, to conduct a demonstration project on physical fitness to shift the community focus on healthcare from “sickness” to “health” becoming a prototype for health status improvement in small and rural communities. ($430,013)

2. Institutes for Health, Science, and Society, in Greensboro, North Carolina, for the Children's Healthy Life Skills initiative to coordinate, implement and assess the effectiveness of specific interventions designed to promote fitness and prevent obesity in children. ($277,969)

3. National Youth Fitness and Obesity Institute at the University of Northern Iowa, to conduct a demonstration project on physical fitness in rural areas. ($233,196)

C. Availability of Funds

Approximately $941,178 is available in FY 2001 to fund three awards. It is expected that the award will begin on or about July 15, 2001, and will be made for a 12-month budget period within a one-year project period. Funding estimates may change.

D. Where to Obtain Additional Information

This and other CDC announcements can be found on the CDC home page Internet address http://www.cdc.gov. Click on Funding then Grants and Cooperative Agreements.

To obtain business management technical assistance, contact: Robert Hancock, Grants Management Specialist, Grants Management Branch, Procurement and Grants Office, Announcement 01093, Centers for Disease Control and Prevention (CDC), 2920 Brandywine Road, Room 3000, Atlanta, GA 30341-4146, Telephone: (770) 488-2746, E-mail Address: rnh2@cdc.gov.

For program technical assistance, contact: Dan Sadler, CDC/National Center for Chronic Disease Prevention and Health Promotion (NCCDPHP), Division of Nutrition and Physical Activity, 4770 Buford Highway, NE, MS K-24, Atlanta, Georgia 30341-3717, Telephone: (770) 488-6042, E-Mail Address: DSadler@CDC.GOV.

Dated: April 17, 2001.
John L. Williams,
Director, Procurement and Grants Office, Centers for Disease Control and Prevention.

[FR Doc. 01-9932 Filed 4-20-01; 8:45 am]

BILLING CODE 4163-18-P